NATIONAL SCIENCE FOUNDATION

Proposal Review Panel for Physics; Notice of Meeting

In accordance with the Federal Advisory Committee Act (Pub. L. 92-463, as amended), the National Science Foundation announces the following meeting.

Name: University of Notre Dame Site Visit in Physics (1208).

Date and Time: Tuesday, October 19, 2010; 8 a.m.-6 p.m.

Wednesday, October 20, 2010: 8 a.m.-4 p.m.

Place: University of Notre Dame, Indiana 46556.

Type of Meeting: Partially Closed.

Contact Person: Dr. Kathleen McCloud, Program Director for Physics Education and Disciplinary Research, National Science Foundation, 4201 Wilson Blvd., Arlington, VA 22230. Telephone: (703) 292-8236.

Purpose of Meeting: To provide an oversight report on progress of research performed under a Cooperative Agreement with the National Science Foundation.

Agenda

Tuesday. October 19, 2010

Open 8:15-10 JINA science overview talk and discussion.

Closed 10:30-10:45 Executive Session.

Open 10:45-12:15 JINA astrophysics highlights.

Open 2-3 JINA nuclear Physics experiments.

Closed 3:50-4:30 Executive Session.

Open 4:30-6:30 Student Poster Session.

Wednesday, October 20, 2010

Closed 8:30-9:30 Executive Session.

Open 10-11 Administrators and JINA Discussions.

Closed 11-12 Executive Session and writing session.

Open 1:30-2 Administrators and JINA discussions.

Closed 2:30-4 Writing session and Close out.

Reason for Closing: The proposal contains proprietary or confidential material including technical information; financial data, such as salaries; and personal information concerning individuals associated with the proposals. These matters are exempt under 5 U.S.C. 552b(c) and (6) of the Government in the Sunshine Act.

Dated: September 15, 2010.
Susanne Bolton,
Committee Management Officer.

[FR Doc. 2010-23375 Filed 9-17-10; 8:45 am]

BILLING CODE 7555-01-P